NATIONAL SCIENCE FOUNDATION

Agency Information Collection Activities: Comment Request; Office of Civil Rights Civil Rights Case Management System

AGENCY: National Science Foundation.

ACTION: Submission for OMB review; comment request.

SUMMARY: The National Science Foundation (NSF) has submitted the following information collection requirement to OMB for review and clearance under the Paperwork Reduction Act of 1995. This is the second notice for public comment; the first was published in the Federal Register, and no comments were received. NSF is forwarding the proposed submission to the Office of Management and Budget (OMB) for clearance simultaneously with the publication of this second notice.

DATES: Written comments and recommendations for the proposed information collection should be sent within 30 days of publication of this notice to www.reginfo.gov/public/do/PRAmain. Find this particular information collection by selecting “Currently under 30-day Review—Open for Public Comments” or by using the search function.

FOR FURTHER INFORMATION CONTACT: Suzanne H. Plimpton, Reports Clearance Officer, National Science Foundation, 2415 Eisenhower Avenue, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

Comments: Comments regarding (a) whether the proposed collection of information is necessary for the proper performance of the functions of the NSF, including whether the information shall have practical utility; (b) the accuracy of the NSF's estimate of the burden of the proposed collection of information; (c) ways to enhance the quality, use, and clarity of the information on respondents; and (d) ways to minimize the burden of the collection of information on those who are to respond, including through the use of appropriate automated, electronic, mechanical, or other technological collection techniques or other forms of information technology should be addressed to the points of contact in the FOR FURTHER INFORMATION CONTACT section.

Copies of the submission may be obtained by calling 703-292-7556. NSF may not conduct or sponsor a collection of information unless the collection of information displays a currently valid OMB control number, and the agency informs potential persons who are to respond to the collection of information that such persons are not required to respond to the collection of information unless it displays a currently valid OMB control number.

SUPPLEMENTARY INFORMATION:

Title of Collection: Office of Civil Rights—Civil Rights Case Management System.

OMB Control No.: 3145-New.

Abstract: The U.S. National Science Foundation (NSF) Office of Civil Rights (OCR) processes discrimination complaints under various federal civil rights laws and regulations. Organizations that receive funding awards from NSF are prohibited from discriminating against individuals who participate in any NSF-funded programs, services, and activities. To ensure awardee organizations follow civil rights laws, OCR's Awardee Compliance Branch (ACB) receives and considers complaints for investigation of unlawful discrimination, harassment, and retaliation in NSF-funded programs, services, and activities.

OCR ACB is establishing an electronic case management system to receive, evaluate, process, investigate, and resolve allegations of discrimination, harassment, or retaliation. Complainants submit their complaint information into the case management system. Information collected and maintained by the system includes: name and contact information for the complainant; impacted party (i.e., complainant or other individual), witnesses, respondent, awardee organization; complaint information (which includes basis of discrimination or harassment, complaint description, remedies, and whether the complaint is filed in any other forum); any additional documentation; and a consent form for investigation and sharing of information with the relevant organization(s). If the complaint is accepted for investigation, additional information may be collected that is relevant to the case. This information is collected to help OCR staff determine if there is jurisdiction to accept complaints for investigation by OCR or if the complaint should be referred to NSF's Office of the Inspector General (OIG), to the institution, or another federal agency. Information is only used and shared on a need-to-know basis.

Respondents: Those who experienced or witnessed harassment or discrimination within an NSF program or activity.

Estimated Number of Annual Respondents: 100.

Burden on the Public: Estimated 30 minutes to fill out the information to submit a complaint. The time varies by complaint. The estimated burden time is 50 hours a year.

Dated: December 15, 2025.
Suzanne H. Plimpton,
Reports Clearance Officer, National Science Foundation.

[FR Doc. 2025-23121 Filed 12-16-25; 8:45 am]

BILLING CODE 7555-01-P